NATIONAL SCIENCE FOUNDATION

Networking and Information Technology Research and Development Big Data Strategic Initiative Workshop

AGENCY: The National Coordination Office (NCO) for Networking and Information Technology Research and Development (NITRD).

ACTION: Notice—2015 NITRD Big Data Strategic Initiative Workshop.

SUMMARY: The BDSI-2015 Workshop is designed to gather input from private industry, academia, and Federal research laboratories regarding the drafting of a Federal Big Data Research Agenda.

DATES: January 22-23, 2015.

ADDRESSES: The 2015 NITRD Big Data Strategic Initiative Workshop (BDSI-2015) will begin with a dinner reception on Thursday, January 22nd at 6 p.m. The workshop will take place on Friday, January 23rd from 9 a.m.-5 p.m. Workshop check-in/registration will take place from 8:30 a.m.-9 a.m. on January 23rd. BDSI-2015 will take place at Georgetown University in Washington, DC. For directions, please consult the Web site listed below.

FOR FURTHER INFORMATION CONTACT: Please visit the Web site at: http://workshops.cs.georgetown.edu/BDSI-2015/ or contact: Wendy Wigen at 703-292-4873 or wigen@nitrd.gov. Capacity is limited but the workshop will be webcast. Information regarding the webcast will be available on the Web site starting the week of January 19th. Individuals who use a telecommunications device for the deaf (TDD) may call the Federal Information Relay Service (FIRS) at 1-800-877-8339 between 8 a.m. and 8 p.m., Eastern time, Monday through Friday.

SUPPLEMENTARY INFORMATION: Overview: The growth in scale, diversity, and complexity of data has increased the demand for understanding large amounts of heterogeneous data. This presents new challenges to the way data and information are used and managed. A need exists to understand ways to design systems for processing big data, develop sophisticated analytics using large-scale data, consider privacy issues arising from use of this massive data, and determine ways to teach big data analytics across disciplines. This workshop will bring together academic and industry leaders across disciplines to further inform the development of an effective Federal Big Data Research Agenda.

Background: Given the large number of overlapping data challenges many federal agencies are facing, a National Big Data R&D Initiative was launched in March 2012. As part of this Initiative, a Federal Big Data Research Agenda is under development. This workshop is part of the process to collect input from those in academia and industry that are working on big data research and new technologies.

The purpose of drafting a Federal Big Data Research Agenda is to assist Federal Agencies in planning their individual Big Data R&D programs and initiatives. The Agenda is expected to be released in late 2015.

Submitted by the National Science Foundation for the National Coordination Office (NCO) for Networking and Information Technology Research and Development (NITRD) on January 22, 2015.
Suzanne H. Plimpton,
Reports Clearance Officer, National Science Foundation.

[FR Doc. 2015-01390 Filed 1-26-15; 8:45 am]

BILLING CODE 7555-01-P